FEDERAL TRADE COMMISSION

Privacy Act of 1974; System of Records Notices

AGENCY: Federal Trade Commission (FTC).

ACTION: Notice of revised Privacy Act system notices.

SUMMARY: The FTC is making technical revisions to several of the notices that it is required to publish under the Privacy Act of 1974 to describe its systems of records about individuals. This action is intended to make these notices clearer, more accurate, and up-to-date.

DATES: This notice shall become final and effective on February 23, 2015.

FOR FURTHER INFORMATION CONTACT: G. Richard Gold, Alex Tang, or Lorielle L. Pankey, Attorneys, Office of the General Counsel, FTC, 600 Pennsylvania Avenue NW., Washington, DC 20580, (202) 326-2424.

SUPPLEMENTARY INFORMATION: To inform the public, the FTC publishes in the Federal Register and posts on its Web site a “system of records notice” (SORN) for each system of records about individuals that the FTC currently maintains within the meaning of the Privacy Act of 1974, as amended, 5 U.S.C. 552a. See http://www.ftc.gov/about-ftc/foia/foia-reading-rooms/privacy-act-systems. Each SORN describes the records maintained in each system, including the categories of individuals that the records in the system are about (e.g., FTC employees or consumers). Each system notice also contains information explaining how individuals can find out from the agency if that system contains any records about them.

On June 12, 2008, the FTC republished and updated all of the FTC's SORNs, describing all of the agency's systems of records covered by the Privacy Act in a single document for ease of use and reference. 73 FR 33592. To ensure the SORNs remain accurate, FTC staff reviews each SORN on a periodic basis. As a result of this systematic review, the FTC made revisions to several of its SORNs on April 17, 2009, 74 FR 17863, and on August 27, 2010, 75 FR 52749. Based on subsequent review, the FTC is making the following technical revisions to several of its SORNs and one of the appendices.¹

¹ The FTC is not adding or changing any routine uses of its system records, adding any new systems, or making other significant system changes that would require prior public comment or notice to the Office of Management & Budget (OMB) and Congress. See U.S.C. 552a(e)(11) and 552a(r); OMB Circular A-130, Appendix I.

I. FTC Law Enforcement Systems of Records

FTC-I-8 (Stenographic Reporting Services Request System—FTC). This SORN covers the database system that the FTC uses to log and fulfill requests by FTC attorneys for stenographic services in FTC investigations, litigation and other FTC matters. The Commission is including additional types of records under “category of records” and changing the retrievability section to reflect the capabilities of a new internal software program used to track stenographic services. The FTC also is clarifying that the information maintained in this system can include a deponent's home address and that this type of information is destroyed by the FTC when no longer needed.

II. Federal Trade Commission Personnel Systems of Records

FTC-II-1 (General Personnel Records—FTC),

FTC-II-2 (Unofficial Personnel Records—FTC),

FTC-II-3 (Workers' Compensation—FTC),

FTC-II-4 (Employment Application-Related Records—FTC),

FTC-II-8 (Employee Adverse Action and Disciplinary Records—FTC),

FTC-II-10 (Employee Health Care Records—FTC), and

FTC-II-12 (e-Train Learning Management System—FTC).

These SORNs relate to FTC employee records. The Human Resources Management Office (HRMO) is now the Human Capital Management Office (HCMO). We have revised the titles of system managers and other references in these SORNs to reflect this change. For FTC-II-2 (Unofficial Personnel Records—FTC), we also have clarified the retention and disposal section.

FTC-II-7 (Ethics Program Records-FTC). This SORN covers financial disclosure forms, ethics agreements and other records related to conflict of interest determinations. This SORN also pertains to other ethics records about individual FTC employees, including material addressing outside activities, post-employment, and travel reimbursement concerns. The Office of Government Ethics (OGE) has published two Government-wide SORNs that together cover records in this FTC system. See OGE/GOVT-1 (Public Financial Disclosure Reports and Other Name-Retrieved Ethics Program Records), OGE/GOVT-2 (Confidential Financial Disclosure Reports). See 68 FR 3098, 24744 (2003). We have revised FTC-II-7 to make it more consistent with the OGE SORNs.

FTC-II-11 (Personnel Security, Identity Management, and Access Control Records System—FTC). This SORN covers security-related records for determining the eligibility of FTC employees or other authorized individuals (e.g., on-site contractors) for access to FTC facilities and resources, as well as records related to granting and controlling such access. The FTC has clarified that those materials obtained from the Office of Personnel Management's Federal Investigative Services (OPM-FIS) remain the property of OPM-FIS and are subject to that agency's SORN.²

² This is OPM/CENTRAL-9 (Personnel Investigations Records), which was most recently amended at 75 FR 28307 (May 20, 2010).

III. Federal Trade Commission Financial Systems of Records

FTC-III-1 (Personnel Payroll System—FTC). This SORN covers payroll processing and retirement records for FTC employees. As noted above, the Human Resources Management Office (HRMO) is now the Human Capital Management Office (HCMO), and the FTC has revised the title of the system manager for this system to reflect this change.

FTC-III-3 (Financial Management System—FTC). This SORN covers FTC records of payments or reimbursements for travel by its employees and others and payments for the acquisition of other goods or services. The FTC has revised FTC-III-3 to update the hyperlink to the related SORN published by Department of the Interior (DOI), which processes and manages financial data for the FTC. See DOI-91 (Federal Financial System), 78 FR 55284 (Sept. 10, 2013).

IV. FTC Correspondence Systems of Records

FTC-IV-1 (Consumer Information System—FTC). This SORN covers consumer complaints and information requests received from consumers, as well as identity theft complaints. We have revised the SORN's exemption language to incorporate the pre-existing (k)(2) exemption as set out in 16 CFR 4.13(m)(2) applicable to identity theft records. This merely corrects an inadvertent omission in the 2008 SORN update and republication, rather than establishing any new exemption.³

³ In the 2008 SORN update and republication, the previously separate Identity Theft Complaint Management System was incorporated into the broader Consumer Information System. Pursuant to 5 U.S.C. 552a(k)(2), the Identity Theft Management System was exempt from the requirements of subsections (c)(3), (d), (e)(1), (e)(4) (G), (H), (I), and (f) of 5 U.S.C. 552a, and the corresponding provisions of 16 CFR 4.13. See FTC Rules of Practice 4.13(m), 16 CFR 4.13(m).

VII. FTC Miscellaneous Systems of Records

FTC-VII-2 (Employee Locator (STAFFID) System—FTC). This SORN tracks and locates employees, contractors, volunteers or others (e.g., students) working for or at the FTC. The FTC is updating the system manager entry to Assistant Director for Infrastructure Operations, Office of the Chief Information Officer.

FTC-VII-3 (Computer Systems User Identification and Access Records—FTC). This SORN covers records that the FTC maintains on those who have access to FTC computer systems in order to monitor and control the usage of such systems. The FTC is revising this SORN to delete the Assistant Chief Information Officer, Operations Assurance, Office of Information and Technology Management, as one of the system managers. The FTC is also updating the title of the remaining system manager, who is the Assistant Director for Infrastructure Operations, Office of the Chief Information Officer.

FTC-VII-4 (Call Detail Records—FTC). This SORN covers records that the FTC maintains on telephone system usage by FTC employees, contractors and other individuals who work at the FTC. Due to an internal reorganization of the agency's information and technology resources, the FTC is revising this SORN to delete the Assistant Chief Information Officer, Customer Services, Office of Information and Technology Management as one of the system managers. The FTC is updating the title of the remaining system manager, who is the Assistant Director for Infrastructure Operations, Office of the Chief Information Officer.

FTC-VII-7 (Information Technology Service Ticket System—FTC). This SORN tracks and fulfills requests made by employees or other individuals for building repairs, maintenance or other administrative services. The FTC is clarifying that this system's purpose also includes registering, tracking and controlling usage of FTC desktop and mobile telephones and other FTC telecommunication devices by individual users. Additionally, the categories of records includes individual users of any of these types of devices. Due to an internal reorganization of the agency's information and technology resources, the FTC is revising this SORN to delete the Assistant Chief Information Officer, Customer Services, Office of Information and Technology Management as one of the system managers. The FTC is updating the title for the existing system manager, who is the Assistant Director for Applications, Office of the Chief Information Officer.

Appendix III (FTC System Locations). This Appendix includes the addresses of all FTC facilities, including its satellite building in Washington, DC, and regional offices. It also explains that the FTC may maintain records in other leased facilities or, in certain cases, may have contractors operate or maintain Privacy Act record systems off-site. The FTC is updating the list of these facilities to include changes to satellite locations in the Washington, DC, area. The entire appendix as revised is set out below.

FTC Systems of Records Notices

Accordingly, the FTC revises and updates its Privacy Act systems of records below as follows:

I. FTC Law Enforcement Systems of Records

* * * * *

FTC-I-8

SYSTEM NAME:

Stenographic Reporting Services Request System—FTC.

* * * * *

CATEGORIES OF INDIVIDUALS COVERED BY THE SYSTEM:

FTC staff who have requested stenographic reporting services for depositions, testimony or other transcriptions in FTC proceedings; other FTC staff or contractors involved in processing the request or providing such services; witnesses or other individuals who are deposed or provide testimony at hearings or proceedings in which stenographic reporting services are used. (Businesses, sole proprietorships, or corporations are not covered by this system.)

CATEGORIES OF RECORDS IN THE SYSTEM:

Name, phone number, mail drop, and FTC organization of the individual requesting stenographic reporting services and other information about the service request, including but not limited to: request number, request status, request submitted date, funding organization name and number, matter name, number and organization, activity code name and number, lead attorney name and number, contract and delivery order number and name, deponent name, witness language, due dates, service date and time, duration time of service, name and number of individuals eligible to purchase the transcripts, name and address of location where deposition will be taken including home addresses when applicable, type of recording device that contains the material to be transcribed, type of formatting required for draft and final copies; recording details such as number of recordings, total minutes, digital file size, total number of tapes/CDs/DVDs; original language of media, specific types of audio and video and the name, address and phone number of anybody other than the requester that is receiving a copy of the transcript.

* * * * *

PURPOSE(S):

To track and fulfill FTC staff requests for stenographic services from the agency's stenographic reporting service contractors; to schedule services with such contractors; to provide information necessary for the contractor to render such services; and for other internal administrative purposes, including to ensure that stenographic services are being properly allocated and authorized, to provide statistical data on service usage for agency managerial and budget purposes, and as source for transcript dates and times for incorporation as appropriate into FTC-I-5 (Matter Management System—FTC) and FTC-VII-6 (Document Management and Retrieval System—FTC).

* * * * *

RETRIEVABILITY:

Data in the system may be retrieved electronically by the name of the individual being deposed or providing testimony, the individual requesting stenographic services, the managing attorney, the fund manager name, the request number, the matter number, the delivery order number, the contract number, or by other data entered into and searchable in the system.

* * * * *

RETENTION AND DISPOSAL:

Records are retained and disposed of in accordance with Schedule 2 of FTC Records Retention Schedule N1-122-09-1, which was approved by the National Archives and Records Administration. The FTC will destroy home address information for deponents when no longer needed as non-record material.

* * * * *

II. Federal Trade Commission Personnel Systems of Records

FTC-II-1

SYSTEM NAME:

General Personnel Records—FTC.

* * * * *

CATEGORIES OF RECORDS IN THE SYSTEM:

Each category of records may include identifying information such as name(s), date of birth, home residence, mailing address, Social Security number, and home telephone number. This system includes, but is not limited to, the contents of the Official Personnel Folder (OPF) maintained by the FTC's Human Capital Management Office (HCMO) and described in the United States Office of Personnel Management (OPM) Guide to Personnel Recordkeeping and in OPM's Government-wide system of records notice for this system, OPM/GOVT-1. (Nonduplicative personnel records maintained by FTC employee managers in other FTC offices are covered by FTC-II-2, Unofficial Personnel Records-FTC.) Records in this system (FTC-II-(1) include copies of current employees' applications for employment, documentation supporting appointments and awards, benefits records (health insurance, life insurance, retirement information, and Thrift Savings Plan information), investigative process documents, personnel actions, other personnel documents, changes in filing requirements, and training documents.

Other records include:

a. Records reflecting work experience, educational level achieved, specialized education or training obtained outside of Federal service.

b. Records reflecting Federal service and documenting work experience and specialized education or training received while employed. Such records contain information about past and present positions held; grades; salaries; and duty station locations; commendations, awards, or other data reflecting special recognition of an employee's performance; and notices of all personnel actions, such as appointments, transfers, reassignments, details, promotions, demotions, reductions in force, resignations, separations, suspensions, approval of disability retirement applications, retirement and removals.

c. Records relating to participation in the Federal Employees' Group Life Insurance Program and Federal Employees Health Benefits Program.

d. Records relating to an Intergovernmental Personnel Act assignment or Federal-private exchange program.

e. Records relating to participation in an agency Federal Executive or SES Candidate Development Program.

f. Records relating to Government-sponsored training or participation in the agency's Upward Mobility Program or other personnel programs designed to broaden an employee's work experiences and for purposes of advancement (e.g., an administrative intern program).

g. Records connected with the Senior Executive Service (SES), for use in making studies and analyses of the SES, preparing reports, and in making decisions affecting incumbents of these positions, e.g., relating to sabbatical leave programs, training, reassignments, and details, that are perhaps unique to the SES and which may or may not be filed in the employee's OPF. These records may also serve as basis for reports submitted to OMB's Executive Personnel and Management Development Group for purposes of implementing the Office's oversight responsibilities concerning the SES.

h. Records on an employee's activities on behalf of the recognized labor organization representing agency employees, including accounting of official time spent and documentation in support of per diem and travel expenses.

i. To the extent that the records listed here are also maintained in the agency automated personnel or microform records system, those versions of the above records are considered to be covered by this system notice. Any additional copies of these records (excluding performance ratings of record and conduct-related documents maintained by first-line supervisors and managers covered by FTC-II-2) maintained by agencies at field or administrative offices remote from where the original records exist are considered part of this system.

j. Records relating to designations for lump sum death benefits.

k. Records relating to classified information nondisclosure agreements.

l. Records relating to the Thrift Savings Plan (TSP) concerning the starting, changing, or stopping of contributions to the TSP as well as the how the individual wants the investments to be made in the various TSP Funds.

m. Copies of records contained in the Enterprise Human Resources Integration (EHRI) data warehouse (including the Central Employee Record, the Business Intelligence file that provide resources to obtain career summaries, and the electronic Official Personnel Folder (eOPF)) maintained by OPM. These data elements include many of the above records along with additional human resources information such as training, payroll and performance information from other OPM and agency systems of records. A definitive list of EHRI data elements is contained in OPM's Guide to Human Resources Reporting and The Guide to Personnel Data Standards.

n. Emergency contact information for the employee (see, e.g., FTC Form 75), which is kept on the left side of the OPF.

* * * * *

SAFEGUARDS:

Access is restricted to agency personnel or contractors whose responsibilities require access. Paper records are maintained in lockable rooms or file cabinets. (In addition, FTC HCMO offices are in a locked suite separate from other FTC offices not generally accessible to the public or other FTC staff.) Access to electronic records is controlled by “user ID” and password combinations and/or other appropriate electronic access or network controls (e.g., firewalls). FTC buildings are guarded and monitored by security personnel, cameras, ID checks, and other physical security measures.

* * * * *

SYSTEM MANAGER(S) AND ADDRESS:

Director, Human Capital Management Office, Federal Trade Commission, 600 Pennsylvania Avenue NW., Washington, DC 20580.

NOTIFICATION PROCEDURE; RECORD ACCESS PROCEDURES; AND CONTESTING RECORD PROCEDURES:

See Appendix II. Current FTC employees may also request access to their records directly through their designated FTC HCMO contact or managers, as applicable, and may be required to complete a written request form and to show identification to obtain access to their records.

Former FTC employees subsequently employed by another Federal agency should contact the personnel office for their current Federal employer. Former employees who have left Federal service and want access to their official personnel records in storage should contact the National Personnel Records Center, 111 Winnebago Street, St. Louis, MO 63118-4126.

* * * * *

FTC-II-2

SYSTEM NAME:

Unofficial Personnel Records—FTC.

* * * * *

RETENTION AND DISPOSAL:

Records are generally retained in accordance with National Archives and Records Administration (NARA) General Records Schedule (GRS) 1, items 18 (supervisory personnel files) and 23 (employee performance records). A detailed retention schedule for employee performance-related records; which include ratings of record, supporting documentation for those ratings, and any other performance-related material required by agency performance appraisal system, is also set forth in OPM/GOVT-2. In general, supervisory personnel files are destroyed within 1 year after the employee separates or transfers from the agency, and employee performance records that have not been destroyed as obsolete or superseded, or have not been placed in the employee's Official Personnel Folder (OPF), see FTC II-1, are destroyed when they are 4 years old for non-SES appointees, or 5 years old for SES appointments. Where any of these records are needed in connection with an administrative, quasi-judicial or judicial proceeding, they may be retained as needed beyond the retention periods stated in GRS 1.

SYSTEM MANAGER(S) AND ADDRESS:

Director, Human Capital Management Office (HCMO), Federal Trade Commission, 600 Pennsylvania Avenue NW., Washington, DC 20580.

NOTIFICATION PROCEDURE; RECORD ACCESS PROCEDURES; AND CONTESTING RECORD PROCEDURES:

See Appendix II. Current FTC employees may also request access to their records directly through their designated FTC HCMO contact or managers, as applicable, and may be required to complete a written request form and to show identification to obtain access to their records.

Former FTC employees subsequently employed by another Federal agency should contact the personnel office for their current Federal employer. Former employees who have left Federal service and want access to their official personnel records in storage should contact the National Personnel Records Center, 111 Winnebago Street, St. Louis, MO 63118-4126.

* * * * *

FTC-II-3

SYSTEM NAME:

Workers' Compensation—FTC.

* * * * *

SYSTEM MANAGER(S) AND ADDRESS:

Director, Human Capital Management Office (HCMO), Federal Trade Commission, 600 Pennsylvania Avenue NW., Washington, DC 20580. See DOL/GOVT-1 for information about the system manager and address for that system.

NOTIFICATION PROCEDURE; RECORD ACCESS PROCEDURES; AND CONTESTING RECORD PROCEDURES:

See Appendix II. Current FTC employees may also request access to their records directly through their Human Resources contact or managers as applicable and may be required to complete a written form and show identification to obtain access to their records. See DOL/GOVT-1 for information about the notification, record access and contesting procedures for claims records maintained by DOL.

RECORD SOURCE CATEGORIES:

Employee claiming work-related injury; beneficiaries; witnesses; FTC supervisors, managers, and responsible FTC HRMO staff; DOL; suppliers of health care products and services and their agents and representatives, including physicians, hospitals, and clinics; consumer credit reports, etc.

* * * * *

FTC-II-4

SYSTEM NAME:

Employment Application-Related Records—FTC.

* * * * *

SYSTEM MANAGER(S) AND ADDRESS:

Director, Human Capital Management Office, Federal Trade Commission, 600 Pennsylvania Avenue NW., Washington, DC 20580.

See OPM/GOVT-5 for information about the system manager and address for OPM's system of records.

* * * * *

FTC-II-7

SYSTEM NAME:

Ethics Program Records—FTC.

RECORD SOURCE CATEGORIES:

The subject individual or a designated person, such as a trustee, attorney, accountant, banker, or relative; federal officials who review the statements to make conflict of interest determinations; and persons alleging conflict of interests or violations of other ethics laws and persons contacted during any investigation of the allegations.

* * * * *

FTC-II-8

SYSTEM NAME:

Employee Adverse Action and Disciplinary Records—FTC.

* * * * *

SYSTEM MANAGER(S) AND ADDRESS:

Director, Human Capital Management Office, Federal Trade Commission, 600 Pennsylvania Avenue NW., Washington, DC 20580.

* * * * *

FTC-II-10

SYSTEM NAME:

Employee Health Care Records—FTC.

* * * * *

SYSTEM MANAGER(S) AND ADDRESS:

Director, Capital Management Office, Federal Trade Commission, 600 Pennsylvania Avenue NW., Washington, DC 20580.

Director, DCP/HRS/PSC, Room 4A-15, Parklawn Building, 5600 Fishers Lane, Rockville, Maryland 20857-0001.

* * * * *

FTC-II-11

SYSTEM NAME:

Personnel Security, Identity Management, and Access Control Records System-FTC.

* * * * *

CATEGORIES OF RECORDS IN THE SYSTEM:

Names, security investigation reports, adjudication files, card files, and position sensitivity designation files, and other data compiled, generated or used for personnel security clearance; fingerprints, photographs, signatures, and other personal data collected or used in connection with the issuance of FTC identification (credentials); time, date, location, or other data, logs, tapes, or records compiled or generated when such credentials are used to obtain physical or logical access to FTC facilities or resources.

These records are also covered by the applicable system notice published by the Office of Personnel Management-Federal Investigative Services (OPM-FIS), OPM/CENTRAL-9 (Personnel Investigations Records), and any successor system notice that may be published by OPM-FIS for this system. Any materials obtained from OPM-FIS remain property of OPM-FIS and are subject to OPM/CENTRAL-9.

* * * * *

FTC-II-12

SYSTEM NAME:

e-Train Learning Management System—FTC.

* * * * *

CATEGORIES OF INDIVIDUALS COVERED BY THE SYSTEM:

Individuals who, at the time the records are added to the system, are FTC employees who registered to attend training courses offered by the Human Capital Management Office.

* * * * *

PURPOSE(S):

To provide information to agency managers necessary to indicate the training that has been requested and provided to individual employees; to determine course offerings and frequency; and to manage the training program administered by the Human Capital Management Office. Since this system is legally part of the OPM's Government-wide system of records notice for this system, OPM/GOVT-1, it is subject to the same purposes set forth for that system by OPM, see OPM/GOVT-1, or any successor OPM system notice that may be published for this system (visit www.opm.gov for more information).

* * * * *

SYSTEM MANAGER(S) AND ADDRESS:

Director, Human Capital Management Office, Federal Trade Commission, 600 Pennsylvania Avenue NW., Washington, DC 20580.

* * * * *

RECORD SOURCE CATEGORIES:

Individual about whom the record is maintained, supervisors, managers, and Human Capital Management Office staff responsible for the training program.

* * * * *

III. Federal Trade Commission Financial Systems of Records

FTC-III-1

SYSTEM NAME:

Personnel Payroll System—FTC.

* * * * *

SYSTEM MANAGER(S) AND ADDRESS:

Director, Human Capital Management Office, Federal Trade Commission, 600 Pennsylvania Avenue NW., Washington, DC 20580.

See DOI-85 for the FPPS system manager and address.

* * * * *

FTC-III-3

SYSTEM NAME:

Financial Management System—FTC.

* * * * *

CATEGORIES OF RECORDS IN THE SYSTEM:

For current and former FTC employees, records include names, home addresses, employee supplier numbers, Social Security numbers, banking account numbers for electronic fund transfer payments, invoices and claims for reimbursements.

For non-employee individuals and sole proprietors, records include names, home or business addresses, Social Security numbers, banking account numbers for electronic fund transfer payments, invoices and claims for reimbursement. Records in this system are subject to the Privacy Act only to the extent, if any, they are about an individual within the meaning of the Act, and not if they are about a business or other non-individual.

This system is also covered by the system notice published by the Department of Interior (DOI) for this system, DOI-91 (Oracle Federal Financials), or any successor system notice published by DOI for this system.

* * * * *

IV. FTC Correspondence Systems of Records

FTC-IV-1

SYSTEM NAME:

Consumer Information System—FTC.

* * * * *

EXEMPTIONS CLAIMED FOR THE SYSTEM:

Pursuant to 5 U.S.C. 552a(k)(2), records in this system relating to identity theft are exempt from the requirements of subsections (c)(3), (d), (e)(1), (e)(4) (G), (H), (I), and (f) of 5 U.S.C. 552a, and the corresponding provisions of 16 CFR 4.13. See FTC Rules of Practice 4.13(m), 16 CFR 4.13(m).

* * * * *

VII. FTC Miscellaneous Systems of Records

* * * * *

FTC-VII-2

SYSTEM NAME:

Employee Locator (STAFFID) System—FTC.

* * * * *

SYSTEM MANAGER(S) AND ADDRESS:

Assistant Director for Infrastructure Operations, Office of the Chief Information Officer, Federal Trade Commission, 600 Pennsylvania Avenue NW., Washington, DC 20580.

* * * * *

FTC-VII-3

SYSTEM NAME:

Computer Systems User Identification and Access Records—FTC.

* * * * *

SYSTEM MANAGER(S) AND ADDRESS:

Assistant Director for Infrastructure Operations, Office of the Chief Information Officer, Federal Trade Commission, 600 Pennsylvania Avenue NW., Washington, DC 20580.

* * * * *

FTC-VII-4

SYSTEM NAME:

Call Detail Records—FTC.

* * * * *

SYSTEM MANAGER(S) AND ADDRESS:

Assistant Director for Infrastructure Operations, Office of the Chief Information Officer, Federal Trade Commission, 600 Pennsylvania Avenue NW., Washington, DC 20580.

* * * * *

FTC-VII-7

SYSTEM NAME:

Information Technology Service Ticket System—FTC.

* * * * *

CATEGORIES OF RECORDS IN THE SYSTEM:

FTC personnel, consultants, and contractors assigned office telephones, cell phones, or other telecommunications resources; name of requesting individual, organization code, telephone number, date of reported problem, nature of problem, and action taken to resolve problem.

* * * * *

PURPOSE(S):

To register, track and control usage of office telephones, cell telephones and other telecommunication devices by individual users; to record the receipt of requests for information technology (IT) service by the FTC's enterprise service desk (i.e., help desk) and the actions taken to resolve those requests; to provide agency management with information identifying trends in questions and problems for use in managing the Commission's hardware and software resources. The FTC's help desk, currently operated by a contractor, generates and maintains these records (“service tickets”) in the course of fulfilling requests or orders to create or close email and other network accounts when an individual begins or ends employment at the FTC, to answer questions or provide assistance when FTC staff have problems with computer or network access or other FTC IT equipment or software issues, etc.

* * * * *

SYSTEM MANAGER(S) AND ADDRESS:

Assistant Director for Applications, Office of the Chief Information Officer, Federal Trade Commission, 600 Pennsylvania Avenue NW., Washington, DC 20580.

* * * * *

Appendix III

Locations of FTC Buildings and Regional Offices

In addition to the FTC's headquarters building at 600 Pennsylvania Avenue NW., Washington, DC 20580, the FTC has a satellite building at 400 7th Street SW., Washington, DC 20024, and also operates the following Regional Offices where Privacy Act records may in some cases be maintained or accessed:

East Central Region, Eaton Center, Suite 200, 1111 Superior Avenue, Cleveland, OH 44114-2507

Midwest Region, 55 West Monroe Street, Suite 1825, Chicago, IL 60603-5001

Northeast Region, Alexander Hamilton U.S. Custom House, One Bowling Green, Suite 318, New York, NY 10004

Northwest Region, 915 Second Avenue, Suite 2896, Seattle, WA 98174

Southeast Region, 225 Peachtree Street NE., Suite 1500, Atlanta, GA 30303

Southwest Region, 1999 Bryan Street, Suite 2150, Dallas, TX 75201

Western Region-San Francisco, 901 Market Street, Suite 570, San Francisco, CA 94103

Western Region-Los Angeles, 10877 Wilshire Boulevard, Suite 700, Los Angeles, CA 90024

In addition, FTC records subject to the Privacy Act may sometimes be maintained at other facilities leased by the FTC or operated by FTC contractors, including by other Federal agencies, or by the National Archives and Records Administration on the FTC's behalf.

David C. Shonka,
Principal Deputy General Counsel.

[FR Doc. 2015-03549 Filed 2-20-15; 8:45 am]

BILLING CODE 6750-01-P